DEPARTMENT OF HEALTH AND HUMAN SERVICES

National Institutes of Health

National Institute of Mental Health; Amended Notice of Meeting

Notice is hereby given of a change in the meeting of the Board of Scientific Counselors, National Institute of Mental Health, June 12, 2005, 7 p.m. to June 14, 2005, 4:30 p.m. Embassy Suites at the Chevy Chase Pavilion, 4300 Military Road, NW., Washington, DC, 20015 which was published in the Federal Register on May 12, 2005, 70 FR 25096.

The location for this meeting has changed. The meeting will be held at Hyatt Regency Bethesda Hotel, One Bethesda Metro Center, Bethesda, Maryland, from 7 p.m. on June 12, 2005, to 4:30 p.m. on June 14, 2005. The meeting is closed to the public.

Dated: June 14, 2005.
LaVerne Y. Stringfield,
Director, Office of Federal Advisory Committee Policy.

[FR Doc. 05-12274 Filed 6-21-05; 8:45 am]

BILLING CODE 4140-01-M